DEPARTMENT OF TRANSPORTATION

Surface Transportation Board

[STB Finance Docket No. 34600]

Progressive Rail, Incorporated—Lease and Operation Exemption—Rail Lines of Wisconsin Central, Ltd.

Progressive Rail, Incorporated (PGR), a Class III rail carrier, has filed a verified notice of exemption under 49 CFR 1150.41 to lease from Wisconsin Central, Ltd. and operate 23.97 miles of rail line consisting of (1) the Almena-Cameron Branch that extends between milepost 80.88 at or near Almena and milepost 97.80 at or near Cameron, a distance of 16.92 miles in Barron County, WI, and (2) the Rice Lake-Cameron Branch that extends between milepost 49.0 at or near Cameron and milepost 56.05 at or near Rice Lake, a distance of 7.05 miles in Barron County.¹

¹ The rail line in the instant transaction was the subject of a notice of exemption originally filed by Wisconsin Northern Railroad Company, LLC (WNRC), a subsidiary of PGR, and voluntarily withdrawn by WNRC. See Wisconsin Northern Railroad Company, LLC—Lease and Operation Exemption—Rail Lines of Wisconsin Central Ltd. STB Finance Docket No. 34596 (STB served Oct. 22, 2004). The rail line in the instant transaction also connects in Barron County, WI, to another PGR rail line recently acquired in Progressive Rail, Incorporated—Lease and Operation Exemption—Rail Line of Union Pacific Railroad Company, STB Finance Docket No. 34597 (STB served Oct. 29, 2004).

PGR certifies that its projected revenues as a result of this transaction will not result in the creation of a Class II or Class I rail carrier. The transaction was scheduled to be consummated no sooner than October 27, 2004, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34600, must be filed with the Surface Transportation Board, 1925 K Street, NW., Washington, DC 20423-0001. In addition, a copy of each pleading must be served on: Thomas F. McFarland, P.C., 208 South LaSalle St., Suite 1890, Chicago, IL 60604-1112.

Board decisions and notices are available on our Web site at http://www.stb.dot.gov.

Decided: November 3, 2004.
By the Board, David M. Konschnik, Director, Office of Proceedings.
Vernon A. Williams,
Secretary.

[FR Doc. 04-25054 Filed 11-10-04; 8:45 am]

BILLING CODE 4915-01-P